DEPARTMENT OF THE TREASURY

Office of the Comptroller of the Currency

Agency Information Collection Activities: Information Collection Renewal; Submission for OMB Review; Examination Questionnaire

AGENCY: Office of the Comptroller of the Currency (OCC), Treasury.

ACTION: Notice and request for comment.

SUMMARY: The OCC, as part of its continuing effort to reduce paperwork and respondent burden, invites the general public and other Federal agencies to comment on the renewal of an information collection, as required by the Paperwork Reduction Act of 1995 (PRA).

An agency may not conduct or sponsor, and a respondent is not required to respond to, an information collection unless it displays a currently valid Office of Management and Budget (OMB) control number.

The OCC is soliciting comment concerning renewal of its information collection titled, “Examination Questionnaire.” The OCC also is giving notice that it has sent the collection to OMB for review.

DATES: Comments must be submitted by August 1, 2016.

ADDRESSES: Because paper mail in the Washington, DC area and at the OCC is subject to delay, commenters are encouraged to submit comments by email, if possible. Comments may be sent to: Legislative and Regulatory Activities Division, Office of the Comptroller of the Currency, Attention: 1557-0199, 400 7th Street SW., Suite 3E-218, Mail Stop 9W-11, Washington, DC 20219. In addition, comments may be sent by fax to (571) 465-4326 or by electronic mail to prainfo@occ.treas.gov. You may personally inspect and photocopy comments at the OCC, 400 7th Street SW., Washington, DC 20219. For security reasons, the OCC requires that visitors make an appointment to inspect comments. You may do so by calling (202) 649-6700 or, for persons who are deaf or hard of hearing, TTY, (202) 649-5597. Upon arrival, visitors will be required to present valid government-issued photo identification and submit to security screening in order to inspect and photocopy comments.

All comments received, including attachments and other supporting materials, are part of the public record and subject to public disclosure. Do not include any information in your comment or supporting materials that you consider confidential or inappropriate for public disclosure.

Additionally, please send a copy of your comments by mail to: OCC Desk Officer, 1557-0199, U.S. Office of Management and Budget, 725 17th Street NW., #10235, Washington, DC 20503, or by email to: oira submission@omb.eop.gov.

FOR FURTHER INFORMATION CONTACT: Shaquita Merritt, Clearance Officer, (202) 649-5490 or, for persons who are deaf or hard of hearing, TTY, (202) 649-5597, Legislative and Regulatory Activities Division, Office of the Comptroller of the Currency, 400 7th Street SW., Washington, DC 20219.

SUPPLEMENTARY INFORMATION: The OCC is proposing to extend OMB approval for the following information collection:

Title: Examination Questionnaire.

OMB Control No.: 1557-0199.

Affected Public: Businesses or other for-profit.

Type of Review: Extension of a currently approved collection.

Abstract:

The OCC provides each national bank or Federal savings association with an Examination Survey at the end of its supervisory cycle (12- or 18-month period). This information collection permits banks to assess the OCC's bank supervisory activities, including the:

• Effectiveness of OCC communications with the bank;

• Reasonableness of OCC requests for data and information;

• Quality of OCC decisionmaking during the exam process;

• Professionalism of OCC examining staff; and

• Responsiveness of OCC examiners.

The OCC developed the survey at the suggestion of the banking industry. Banking industry members expressed a desire to provide examination-related feedback to the OCC. The Comptroller of the Currency and OCC supervisory staff considered that suggestion and concurred. Further, the Comptroller of the Currency and OCC supervisory staff find this information collection to be an important tool for measuring OCC examination performance, designing more efficient and effective examinations, and targeting examiner training.

This information collection continues to formalize and promote a long-standing OCC program. The OCC always has given the institutions it supervises the opportunity to provide input regarding the examination process.

The Post Exit Survey is no longer being used and has been deleted from this collection.

Burden Estimates:

Estimated Number of Respondents: 1,212.

Estimated Number of Responses per Respondent per Year: 0.65.

Estimated Number of Responses: 788.

Estimated time per response: 10 minutes.

Estimated Annual Burden: 131 hours.

Comments: On April 4, 2016, the OCC published a notice for 60 days of comment concerning the collection, 81 FR 19287. One comment from an individual was received.

The commenter stated that the collection has no practical utility and is not necessary for the proper performance of the functions of the OCC because it does not generate objective assessments of the OCC's performance. The commenter suggested that the OCC should discuss why the potential for retaliation does not bias the results of the questionnaire and limit its usefulness.

The commenter believed that the practical utility of the questionnaire would be improved if the OCC explained why the questionnaire is not offered to the general public, bank customers, or other stakeholders and why it believes that banks provide a more accurate assessment of OCC effectiveness and quality.

The commenter believed that burden could be minimized by eliminating the questionnaire and instead soliciting feedback from bankers through regular outreach activities and called on the OCC to discuss in its final issuance why it has not been eliminated.

The commenter stated that the OCC improves the quality, utility, and clarity of the information when it attentively responds to all significant public comments before finalizing rules. The commenter also believed that when the OCC leaves unclear whether it considered comments, the public record is incomplete and the OCC creates the perception that it makes final decisions on rules without considering the data, views, and arguments of others.

The questionnaire attempts to receive feedback from bankers on supervision areas they find most valuable and areas that could be improved. The feedback is not meant to be an objective method of collection because it will be based on individual bank's experiences with the OCC staff and processes. The collection is voluntary, and the OCC's Ombudsman oversees the data and maintains confidentiality of individual bank responses to prevent retaliation.

Bankers are best equipped to respond to the survey given the objective of the questionnaire to measure OCC's performance and progress in improving the supervisory experience and agency communications. Bankers are direct stakeholders in the OCC's supervisory process and have ongoing contact with the OCC's staff and processes to assess the agency's performance. The general public, bank customers, and other stakeholders do not have direct interaction with the OCC's supervisory process to assess the agency's performance.

The questionnaire is administered in combination with feedback solicited directly from bankers through regular outreach activities. The questionnaire provides bankers the ability to provide candid feedback on the entire supervisory process while preserving their identity from the OCC staff that directly supervises the institutions.

Comments continue to be invited on:

(a) Whether the collection of information is necessary for the proper performance of the functions of the OCC, including whether the information has practical utility;

(b) The accuracy of the OCC's estimate of the information collection burden;

(c) Ways to enhance the quality, utility, and clarity of the information to be collected;

(d) Ways to minimize the burden of the collection on respondents, including through the use of automated collection techniques or other forms of information technology; and

(e) Estimates of capital or start-up costs and costs of operation, maintenance, and purchase of services to provide information.

Mary Hoyle Gottlieb,
Regulatory Specialist, Legislative and Regulatory Activities Division.

[FR Doc. 2016-15594 Filed 6-29-16; 8:45 am]

BILLING CODE 4810-33-P